DEPARTMENT OF COMMERCE

International Trade Administration

[A-822-806, A-821-824, A-520-808]

Carbon and Alloy Steel Wire Rod From Belarus, the Russian Federation, and the United Arab Emirates: Antidumping Duty Orders

AGENCY: Enforcement and Compliance, International Trade Administration, Department of Commerce.

SUMMARY: Based on affirmative final determinations by the Department of Commerce (Commerce) and the International Trade Commission (the ITC), Commerce is issuing antidumping duty (AD) orders on carbon and alloy steel wire rod (wire rod) from Belarus, the Russian Federation (Russia), and the United Arab Emirates (the UAE).

DATES: Applicable January 24, 2018.

FOR FURTHER INFORMATION CONTACT: Rebecca Janz at (202) 482-2972 (Belarus), Kaitlin Wojnar at (202) 482-3857 (Russia), or Carrie Bethea at (202) 482-1491 (the UAE), AD/CVD Operations, Enforcement and Compliance, International Trade Administration, Department of Commerce, 1401 Constitution Avenue NW, Washington, DC 20230.

SUPPLEMENTARY INFORMATION:

Background

In accordance with sections 735(d) and 777(i)(1) of the Tariff Act of 1930, as amended (the Act), and 19 CFR 351.210(c), on November 28, 2017, Commerce published affirmative final determinations in the less-than-fair-value (LTFV) investigations of wire rod from Belarus, Russia, and the UAE.¹ On January 11, 2018, the ITC notified Commerce of its affirmative determination, pursuant to section 735(d) of the Act, that an industry in the United States is materially injured within the meaning of section 735(b)(1)(A)(i) of the Act, by reason of the LTFV imports of wire rod from Belarus, Russia, and the UAE, and its determination that critical circumstances do not exist with respect to imports of wire rod from Russia subject to Commerce's affirmative critical circumstances determination.²

¹ See Certain Carbon and Alloy Steel Wire Rod from Belarus, the Russian Federation, and the United Arab Emirates: Affirmative Final Determinations of Sales at Less Than Fair Value and Partial Affirmative Finding of Critical Circumstances, 82 FR 56214 (November 28, 2017).

² See Letter from the ITC to the Hon. Gary Taverman, dated January 11, 2018.

Scope of the Orders

The product covered by these orders is wire rod. For a complete description of the scope of these orders, see the Appendix to this notice.

Antidumping Duty Orders

In accordance with sections 735(b)(1)(A)(i) and 735(d) of the Act, the ITC notified Commerce of its final determination in these investigations, in which it found that an industry in the United States is materially injured by reasons of imports of wire rod from Belarus, Russia, and the UAE.³ The ITC also notified Commerce of its determination that critical circumstances do not exist with respect to imports of wire rod from Russia subject to Commerce's critical circumstances finding.⁴ Therefore, in accordance with section 735(c)(2) of the Act, Commerce is issuing these AD orders. Because the ITC determined that imports of wire rod from Belarus, Russia, and the UAE are materially injuring a U.S. industry, unliquidated entries of such merchandise from Belarus, Russia, and the UAE are subject to the assessment of antidumping duties.

³ Id.

⁴ Id.

As a result of the ITC's final determination, in accordance with section 736(a)(1) of the Act, Commerce will direct U.S. Customs and Border Protection (CBP) to assess, upon further instruction by Commerce, antidumping duties equal to the amount by which the normal value of the merchandise exceeds the export price, or constructed export price, of the merchandise, for all relevant entries of wire rod from Belarus, Russia, and the UAE. Antidumping duties will be assessed on unliquidated entries of wire rod from Belarus, Russia, and the UAE entered, or withdrawn from warehouse, for consumption on or after September 12, 2017, the date of publication of the preliminary determinations,⁵ but will not include entries occurring after the expiration of the provisional measures period and before publication of the ITC's final injury determination in the Federal Register, as further described below.

⁵ See Carbon and Alloy Steel Wire Rod from Belarus: Preliminary Affirmative Determination of Sales at Less Than Fair Value, 82 FR 42796 (September 12, 2017) (Belarus Preliminary Determination); Certain Carbon and Alloy Steel Wire Rod from the Russian Federation and the United Arab Emirates: Affirmative Preliminary Determinations of Sales at Less Than Fair Value, and Affirmative Preliminary Determination of Critical Circumstances for Imports of Certain Carbon and Alloy Steel Wire Rod from the Russian Federation, 82 FR 42794 (September 12, 2017) (collectively, Preliminary Determinations).

Suspension of Liquidation

In accordance with section 735(c)(1)(B) of the Act, Commerce will instruct CBP to continue to suspend liquidation of all relevant entries of wire rod from Belarus, Russia, and the UAE. These instructions suspending liquidation will remain in effect until further notice.

Commerce will also instruct CBP to require cash deposits equal to the amounts as indicated below. Accordingly, effective the date of publication of the ITC's final affirmative injury determination, CBP will require, at the same time as importers would normally deposit estimated duties on the subject merchandise, a cash deposit equal to the cash deposit rates listed below.⁶ The relevant all-others rates apply to producers or exporters not specifically listed, as appropriate.

⁶ See section 736(a)(3) of the Act.

Provisional Measures

Section 733(d) of the Act states that the suspension of liquidation pursuant to an affirmative preliminary determination may not remain in effect for more than four months, except where exporters representing a significant proportion of exports of the subject merchandise request that Commerce extend the four-month period to no more than six months. In reference to these proceedings, no such request was received from exporters of wire rod from Belarus, Russia, or the UAE. Commerce's preliminary determinations were published on September 12, 2017.⁷ As such, the four-month period ended on January 9, 2018. Pursuant to section 737(b) of the Act, the collection of cash deposits at the rates listed below will begin on the date of publication of the ITC's final injury determination.

⁷ See Preliminary Determinations.

Therefore, in accordance with section 733(d) of the Act, Commerce will instruct CBP to terminate the suspension of liquidation and to liquidate, without regard to antidumping duties, unliquidated entries of wire rod from Belarus, Russia, and the UAE entered, or withdrawn from warehouse, for consumption after January 9, 2018, the date on which provisional measures expired, through the day preceding the date of publication of the ITC's final injury determination in the Federal Register. Suspension of liquidation will resume on the date of publication of the ITC's final determination in the Federal Register.

Critical Circumstances

With regard to the ITC's negative critical circumstances determination regarding imports of wire rod from Russia, Commerce will instruct CBP to lift suspension and refund any cash deposits made to secure payment of estimated antidumping duties on subject merchandise entered, or withdrawn from warehouse, for consumption on or after June 14, 2017, (i.e., 90 days prior to the date of publication of the preliminary determinations), but before September 12, 2017, (i.e., the date of publication of the preliminary determinations).

Estimated Weighted-Average Dumping Margins

The estimated weighted-average AD margins and cash deposit rates are as follows:

Country | Exporter or producer | Estimated margin (%)
Belarus | Belarus-Wide Entity ⁸ | 280.02
Russia | Abinsk Electric Steel Works Ltd | 756.93
| JSC NLMK-Ural | 756.93
| All-Others | 436.80
UAE | Emirates Steel Industries PJSC | 84.10
| All-Others | 84.10

Notification to Interested Parties

⁸ The Belarus-wide entity includes Byelorussian Steel Works, who was the sole mandatory respondent in the investigation of wire rod from Belarus and did not demonstrate that it was entitled to a separate rate. Accordingly, we consider the company to be part of the Belarus-wide entity. See Belarus Preliminary Determination, 82 FR at 42797, n.10.

This notice constitutes the AD orders with respect to wire rod from Belarus, Russia, and the UAE, pursuant to section 736(a) of the Act. Interested parties can find a list of AD orders currently effect at http://enforcement.trade.gov/stats/iastats1.html. These orders are published in accordance with section 736(a) of the Act and 19 CFR 351.211(b).

Dated: January 18, 2018.
Gary Taverman,
Deputy Assistant Secretary for Antidumping and Countervailing Duty Operations, performing the non-exclusive functions and duties of the Assistant Secretary for Enforcement and Compliance.

Appendix

Scope of the Orders

The merchandise covered by these investigations are certain hot-rolled products of carbon steel and alloy steel, in coils, of approximately round cross section, less than 19.00 mm in actual solid cross-sectional diameter. Specifically excluded are steel products possessing the above-noted physical characteristics and meeting the Harmonized Tariff Schedule of the United States (HTSUS) definitions for (a) stainless steel; (b) tool steel; (c) high-nickel steel; (d) ball bearing steel; or (e) concrete reinforcing bars and rods. Also excluded are free cutting steel (also known as free machining steel) products (i.e., products that contain by weight one or more of the following elements: 0.1 percent or more of lead, 0.05 percent or more of bismuth, 0.08 percent or more of sulfur, more than 0.04 percent of phosphorous, more than 0.05 percent of selenium, or more than 0.01 percent of tellurium). All products meeting the physical description of subject merchandise that are not specifically excluded are included in this scope.

The products under investigation are currently classifiable under subheadings 7213.91.3011, 213.91.3015, 7213.91.3020, 7213.91.3093; 7213.91.4500, 7213.91.6000, 7213.99.0030, 7227.20.0030, 7227.20.0080, 7227.90.6010, 7227.90.6020, 7227.90.6030, and 7227.90.6035 of the HTSUS. Products entered under subheadings 7213.99.0090 and 7227.90.6090 of the HTSUS also may be included in this scope if they meet the physical description of subject merchandise above. Although the HTSUS subheadings are provided for convenience and customs purposes, the written description of the scope of this proceeding is dispositive.

[FR Doc. 2018-01254 Filed 1-23-18; 8:45 am]

BILLING CODE 3510-DS-P